DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces the intent of the Foreign Agricultural Service (FAS) to request revision of the information collection currently approved in support of the Trade Adjustment Assistance (TAA) for Farmers Program. FAS invites public comments on this notice.

DATES: Comments on this notice should be received on or before June 3, 2005, in order to be assured of consideration. Comments received after this date may be considered to the extent practicable.

ADDRESSES: Comments should be mailed or delivered to Jean-Louis Pajot, Import Policies and Programs Division, Foreign Agricultural Service, 1400 Independence Avenue, SW. STOP 1021, U.S. Department of Agriculture, Washington, DC 20250-1021. Comments may also be inspected between 10 a.m. and 4 p.m., in room 5541-S, 1400 Independence Avenue, SW., Washington, DC 20250-1021.

FOR FURTHER INFORMATION CONTACT: Jean-Louis Pajot at the address above, or telephone (202) 720-2916, or e-mail at Jean-Louis.Pajot@usda.gov.

Copies of the information collection may be obtained from Liliana Silva-Castellanos, the Agency Information Collection Coordinator, at (202) 690-4055 or e-mail at Liliana.Silva-Castellanos@usda.gov. Persons with disabilities who require alternative means for communication (Braille, large print, audio tape, etc.) should contact the USDA Target Center at (202) 720-2600 (voice and TDD).

SUPPLEMENTARY INFORMATION: FAS invites interested persons to submit comments on this notice. Comments should reference the OMB control number and title of the program.

Title: Trade Adjustment Assistance for Farmers Program.

OMB Control Number: 0551-00-40.

Expiration Date of Approval: August 31, 2006.

Type of Request: Revision of a Currently Approved Information Collection.

Abstract: Form FSA-229, Application for Trade Adjustment Assistance (TAA) is used for producers who are applying for TAA benefits. The application requires the collection of personal information, production, certification of income, and compliance with program requirements. FAS proposes to revise form FSA-229 to incorporate a Part D to allow crewmembers to identify their share of production from a specific vessel. Acceptance of the modified form is contingent upon obtaining the vessel's captain or skipper signature.

Estimate of Burden: Public reporting burden for this collection of information is estimated to average 1 hour per response.

Respondents: Producers who are part of a certified petition for benefits.

Estimated Number of Respondents: 6,000.

Estimated Total Annual Burden on Respondents: 6,000.

Requests for comments: Comments are invited on the following: (a) Whether the collection of information will provide further assistance to the program applicant in providing production evidence to comply with existing requirements; (b) is necessary for the proper performance of the functions of the agency to identify and verify the production of each captain, skipper, and crew member of the vessel who are applying for TAA; (c) ways to enhance the quality, utility and clarity of the information collected; and (d) ways to minimize the burden of the collection of information on those who are to respond, including through the use of appropriate automated, electronic, mechanical, or other technological collection techniques or other forms of information technology.

All comments received in response to this notice, including names and addresses when provided, will be a matter of public record. Comments will be summarized and included in the submission for OMB approval.

Dated: March 28, 2005.
A. Ellen Terpstra,
Administrator, Foreign Agricultural Service.

[FR Doc. 05-6608 Filed 4-1-05; 8:45 am]

BILLING CODE 3410-10-P